FEDERAL RESERVE SYSTEM

12 CFR Parts 225, 238, and 252

[Regulations Y, LL, and YY; Docket No R-1873]

RIN 7100-AH05

Enhanced Transparency and Public Accountability of the Supervisory Stress Test Models and Scenarios; Modifications to the Capital Planning and Stress Capital Buffer Requirement Rule, Enhanced Prudential Standards Rule, and Regulation LL; Extension of Comment Period

AGENCY: Board of Governors of the Federal Reserve System (Board).

ACTION: Notice of Proposed Rulemaking; extension of comment period.

SUMMARY: On November 18, 2025, the Board published in the Federal Register a request for public comment on the models used to conduct the Board's supervisory stress test, changes to those models to be implemented in the 2026 stress test, and proposed changes to enhance the transparency and public accountability of the Board's stress testing framework (the proposal). The Board has determined that an extension of the comment period until February 21, 2026, is appropriate.

DATES: Comments must be received on or before February 21, 2026.

ADDRESSES: You may submit comments, identified by Docket No. R-1873 and RIN 7100-ah05, by any of the following methods:

• Agency website: https://www.federalreserve.gov/apps/proposals/. Follow the instructions for submitting comments, including attachments. Preferred Method.

• Email: publiccomments@frb.gov. You must include the docket number and RIN in the subject line of the message.

• Fax: (202) 452-3819 or (202) 452-3102.

• Mail, Courier and Hand Delivery: Benjamin W. McDonough, Deputy Secretary, Board of Governors of the Federal Reserve System, 20th Street and Constitution Avenue NW, Washington, DC 20551.

Instructions: All public comments are available from the Board's website at https://www.federalreserve.gov/apps/proposals/ as submitted, unless modified for technical reasons. Accordingly, comments will not be edits to remove any identifying or contact information. Public comments may also be viewed electronically or in paper form in Room M-4365A, 2001 C Street NW, Washington, DC 20551, between 9:00 a.m. and 5:00 p.m. on federal weekdays. For security reasons, the Board requires that visitors make an appointment to inspect comments. You may do so by calling (202) 452-3684. Upon arrival, visitors will be required to present valid government-issued photo identification and to submit to security screening in order to inspect and photocopy comments. For users of TTY-TRS, please call 711 from any telephone, anywhere in the United States.

FOR FURTHER INFORMATION CONTACT: Doriana Ruffino, Assistant Director (202) 452-5235, Hillel Kipnis, Assistant Director, (202) 452-2924, John Simone, Lead Financial Institution Policy Analyst, (202) 245-4256, Ben Ranish, Principal Economist, (202) 973-6964, Nathan Palmer, Senior Economist, (202) 785-6089, and Theo Pistner, Financial Institution and Policy Analyst II, (202) 941-1825, Division of Supervision and Regulation; William Bassett, Senior Associate Director, (202) 736-5644, Bora Durdu, Deputy Associate Director, (202) 452-3755, Elena Afanasyeva, Principal Economist, (202) 736-1971, Levent Altinoglu, Principal Economist, (202) 721-4503, and Sam Jerow, Senior Financial Analyst, (202) 245-4299, Division of Financial Stability; Asad Kudiya, Associate General Counsel, (202) 360-6887, Julie Anthony, Senior Special Counsel, (202) 658-9400, Jonah Kind, Senior Counsel, (202) 452-2045, Brian Kesten, Senior Counsel (202) 843-4079, Katherine Di Lucido, Senior Attorney (202) 253-5994, Legal Division. Board of Governors of the Federal Reserve System, 20th Street and Constitution Avenue NW, Washington, DC 20551. For users of TDD-TYY, please call 711 from any telephone, anywhere in the United States.

SUPPLEMENTARY INFORMATION: On November 18, 2025, the Board published in the Federal Register a proposal inviting public comment on the models used to conduct the Board's supervisory stress test, changes to those models to be implemented in the 2026 stress test, and proposed changes to enhance the transparency and public accountability of the Board's stress testing framework.¹ The proposal stated that the comment period would close on January 22, 2026. The Board has received requests to extend the comment period. An extension of the comment period will provide additional opportunity for the public to consider the proposal and prepare comments, including to address the questions posed by the Board. Therefore, the Board is extending the end of the comment period for the proposal from January 22, 2026, to February 21, 2026.

¹ Board, Enhanced Transparency and Public Accountability of the Supervisory Stress Test Models and Scenarios; Modifications to the Capital Planning and Stress Capital Buffer Requirement Rule, Enhanced Prudential Standards Rule, and Regulation LL, 90 FR 51856 (November 18, 2025), https://www.federalregister.gov/documents/2025/11/18/2025-20211/enhanced-transparency-and-public-accountability-of-the-supervisory-stress-test-models-and-scenarios.

By order of the Board of Governors of the Federal Reserve System, acting through the Secretary of the Board under delegated authority.
Benjamin W. McDonough,
Deputy Secretary of the Board.

[FR Doc. 2025-21087 Filed 11-24-25; 8:45 am]

BILLING CODE 6210-01-P